FEDERAL MARITIME COMMISSION

Sunshine Act Meeting

AGENCY HOLDING THE MEETING: Federal Maritime Commission.

TIME AND DATE: April 20, 2016-10 a.m.

PLACE: 800 North Capitol Street NW., First Floor Hearing Room, Washington, DC.

STATUS: The meeting will be held in Open Session.

MATTERS TO BE CONSIDERED:

Open Session

1. Supply Chain Innovation Team Update

2. Briefing on Upgrade to FMC Online Agreement Library

3. Optional Method of Filing Ocean Common Carrier and Marine Terminal Operator Agreements

4. Presentation of Evidence in Commission Adjudicatory Proceedings

CONTACT PERSON FOR MORE INFORMATION: Karen V. Gregory, Secretary, (202) 523 5725.

Karen V. Gregory,
Secretary.

[FR Doc. 2016-09002 Filed 4-14-16; 4:15 pm]

BILLING CODE 6731-AA-P